DEPARTMENT OF DEFENSE

Office of the Secretary

Notice of Availability (NOA) of a Finding of No Significant Impact (FONSI) for the Environmental Assessment (EA) Addressing Construction and Operation of a General Purpose Warehouse and Improvement and Operation of Four Open Storage Areas at Defense Depot Red River, Texas

AGENCY: Defense Logistics Agency, Department of Defense.

ACTION: Notice of Availability (NOA) of a Finding of No Significant Impact (FONSI) for the Environmental Assessment (EA) Addressing Construction and Operation of a General Purpose Warehouse and Improvement and Operation of Four Open Storage Areas at Defense Depot Red River, Texas.

SUMMARY: The Defense Logistics Agency (DLA) announces the availability of a FONSI for the proposed action to construct and operate a general purpose warehouse and improve and operate four existing, unimproved open storage areas at Defense Depot Red River, Texas Depot to provide appropriate storage for vehicles, parts, and other materiel. This action is needed because DLA Distribution Red River does not have sufficient warehousing and open storage space, which leads to the degradation of supplies and safety concerns for staff. The environmental assessment was prepared in accordance with the National Environmental Policy Act (NEPA), (1969), the Council on Environmental Quality regulations, Army Regulation AR 200-2, and DLA Regulation 1000.22. The Draft EA and Draft FONSI were made available for a 30-day public review period, which ended on September 22, 2014. The Draft EA and Draft FONSI also were sent to the Texas Parks and Wildlife Department (TPWD) for review under the Wildlife Habitat Assessment Program. No comments were received from the public during the 30-day review period. The TPWD commented that they do not anticipate significant, adverse impacts on threatened and endangered species or other fish and wildlife resources and concur that an Environmental Impact Statement is not warranted for the Proposed Action. The TPWD recommended removing only the minimum amount of vegetation necessary to construct the proposed GPW and associated infrastructure. The FONSI documents the decision of DLA to proceed with the proposed action.

FOR FURTHER INFORMATION CONTACT: Ira Silverberg at 703-767-0705 during normal business hours Monday through Friday, from 8:00 a.m. to 4:30 p.m. (EDT) or by email: Ira.Silverberg@dla.mil.

SUPPLEMENTARY INFORMATION:

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any Federal, state, or local laws. Based on the results of the analyses performed during preparation of the EA, David Rodriguez, Director, DLA Installation Support, concludes that Construction and Operation of a General Purpose Warehouse and Improvement and Operation of Four Open Storage Areas at Defense Depot Red River, Texas, does not constitute a major Federal action significantly affecting the quality of the human environment within the context of NEPA. Therefore, an environmental impact statement for the Proposed Action is not required.

Dated: January 21, 2015.
Aaron Siegel,
Alternate OSD Federal Register Liaison Officer, Department of Defense.

[FR Doc. 2015-01297 Filed 1-23-15; 8:45 am]

BILLING CODE 5001-06-P